DEPARTMENT OF HEALTH AND HUMAN SERVICES

National Institutes of Health

National Institute on Aging; Amended Notice of Meeting

Notice is hereby given of a change in the meeting of the National Institute on Aging Special Emphasis Panel, June 30, 2017, 11:30 a.m. to June 30, 2017, 01:30 p.m., National Institute on Aging, Gateway Building, 7201 Wisconsin Ave., Suite 2W200, Bethesda, MD 20892 which was published in the Federal Register on June 09, 2017, 82 FR 26811.

The meeting notice is amended to change the title of the meeting from Health Care and Behavioral Economics to Multimorbidity and AD Treatments. The meeting is closed to the public.

Dated: June 13, 2017.
Melanie J. Pantoja,
Program Analyst, Office of Federal Advisory Committee Policy.

[FR Doc. 2017-12615 Filed 6-16-17; 8:45 am]

BILLING CODE 4140-01-P